DEPARTMENT OF DEFENSE

Department of the Air Force

Announcement of Interface Control Working Group (ICWG) Meeting for New L2 and L5 Signal Structures

AGENCY: Department of the Air Force, DoD.

ACTION: Notice, Interested parties may submit requests to attend and participate in this ICWG meeting.

SUMMARY: An interface control working group (ICWG) meeting for resolving issues related to ICD-GPS-705 and to ICD-GPS-200 changes is scheduled for July 26-27, 2001. ICD-GPS-705 describes the new civilian GPS signal (L5C) on the L5 frequency (1176.45 MHz). The changes for the civilian signal (L2C) on the L2 frequency (1227.60 MHz) are described in a draft proposed interface revision notice to ICD-GPS-200. Meeting location is to be determined (TBD) and will be based on the number of respondents. A further message to participants will be sent by July 19, 2001. A previous announcement requested the submission of comments regarding these signal descriptions. Comments are due by July 17, 2001. The first day of the meeting will be devoted to discussions of L5 issues. The agenda for the second day is TBD. A final agenda for both days will be sent by July 19, 2001. Submit suggested agenda items to cmdm@losangeles.af.mil. Please respond by July 17, 2001, and include the number of people that will be attending from your organization.

ADDRESSES: Submit meeting attendance requests to SMC/CZER, 2420 Vela Way, Suite 1467, El Segundo CA 90245-4659, ATTN: 1st Lt Reginald C. Victoria, or to ARINC, Inc., 2250 E. Imperial Highway, Suite 450, El Segundo CA 90245-3509, ATTN: Dr. R. Slattery. Submit e-mail requests to cmdm@losangeles.af.mil, or to rhonda.slattery@arinc.com. Comments may also be sent by fax to (310) 363-6387 or (310) 322-4474.

DATES: The suspense for meeting attendance requests is July 17, 2001. The memo distribution suspense for the meeting location memo is July 19, 2001. The date of the ICWG meeting is July 26-27, 2001.

FOR FURTHER INFORMATION CONTACT: Capt Eric Y. Moore, Configuration Management Processes Coordinator, (310) 363-5117, or 1st Lt Reginald C. Victoria, ICD-GPS-705 Point of Contact, (310) 363-6329, Dr. Rhonda Slattery, ARINC ICD-GPS-705 POC, (310) 726-1654. Addresses above.

SUPPLEMENTARY INFORMATION: The civilian and military communities use the Global Positioning System, which employs a constellation of 24 satellites to provide continuously transmitted signals to enable appropriately configured GPS user equipment to produce accurate position, navigation and time information.

Janet A. Long,
Air Force Federal Register Liaison Officer.

[FR Doc. 01-18077 Filed 7-18-01; 8:45 am]

BILLING CODE 5001-05-U